DEPARTMENT OF COMMERCE

Foreign-Trade Zones Board

[B-50-2022]

Foreign-Trade Zone (FTZ) 196—Fort Worth, Texas; Notification of Proposed Production Activity; Prairie Industries Holdings, Inc. DBA Truvant (Construction Toy Sets); Haslet, Texas

Prairie Industries Holdings, Inc. DBA Truvant submitted a notification of proposed production activity to the FTZ Board (the Board) for its facility in Haslet, Texas within FTZ 196. The notification conforming to the requirements of the Board's regulations (15 CFR 400.22) was received on November 10, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products are LEGO® construction toy sets (duty rate is duty-free).

The proposed foreign-status materials and components include: packaging components (decorative plastic ribbons; laminated packaging sheeting; paper liners; tissue wrapping paper; corrugated and non-corrugated folding cartons; rigid paperboard boxes; printed labels; molded paper pulp containers; paper pulp trays; printed gift cards); toy set components (auto-adhesive stickers; electric motors; alkaline batteries; radio remote controls; motion sensor switches); packaging insert components (building instructions; advertising material catalogs); and, plastic, molded, interlocking bricks of various colors (duty rate ranges from duty-free to 6.7%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is December 28, 2022.

A copy of the notification will be available for public inspection in the “Online FTZ Information System” section of the Board's website.

For further information, contact Juanita Chen at juanita.chen@trade.gov.

Dated: November 14, 2022.
Andrew McGilvray,
Executive Secretary.

[FR Doc. 2022-25149 Filed 11-17-22; 8:45 am]

BILLING CODE 3510-DS-P